ENVIRONMENTAL PROTECTION AGENCY

[EPA-HQ-RCRA-2013-0737; FRL-9907-88-OEI]

Information Collection Request Submitted to OMB for Review and Approval; Comment Request; Land Disposal Restrictions (Renewal)

AGENCY: Environmental Protection Agency (EPA).

ACTION: Notice.

SUMMARY: The Environmental Protection Agency has submitted an information collection request (ICR), “Land Disposal Restrictions (Renewal)” (EPA ICR No. 1442.22, OMB Control No. 2050-0085) to the Office of Management and Budget (OMB) for review and approval in accordance with the Paperwork Reduction Act (44 U.S.C. 3501 et seq.). This is a proposed extension of the ICR, which is currently approved through March 31, 2014. Public comments were previously requested via the Federal Register (78 FR 74127) on December 10, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 17, 2014.

ADDRESSES: Submit your comments, referencing Docket ID No. EPA-HQ-RCRA-2013-0737, to (1) EPA, either online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Environmental Protection Agency, 1200 Pennsylvania Ave. NW., Washington, DC 20460; telephone number: 703-308-5477; fax number: 703-308-8433; email address: vyas.peggy@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: 3004 of the Resource Conservation and Recovery Act (RCRA), as amended, requires that EPA develop standards for hazardous waste treatment, storage, and disposal as may be necessary to protect human health and the environment. Subsections 3004(d), (e), and (g) require EPA to promulgate regulations that prohibit the land disposal of hazardous waste unless it meets specified treatment standards described in subsection 3004(m).

The regulations implementing these requirements are codified in the Code of Federal Regulations (CFR) Title 40, Part 268. EPA requires that facilities maintain the data outlined in this ICR so that the Agency can ensure that land disposed waste meets the treatment standards. EPA strongly believes that the recordkeeping requirements are necessary for the agency to fulfill its congressional mandate to protect human health and the environment.

Form Numbers: None.

Respondents/affected entities: Private sector and State, Local, or Tribal governments.

Respondent's obligation to respond: Mandatory (40 CFR Part 268).

Estimated number of respondents: 90,500.

Frequency of response: Once, Occasionally.

Total estimated burden: 646,455 hours per year. Burden is defined at 5 CFR 1320.03(b).

Total estimated cost: $86,668,517 (per year), includes $33,928,964 labor and $52,739,553 annualized capital or operation & maintenance costs.

Changes in the Estimates: There is a decrease of 561,927 hours in the total estimated respondent burden compared with the ICR currently approved by OMB. This decrease is due to a better estimate in the number of small quantity generators (SQGs). Unlike large quantity generators that have to fill out a Hazardous Waste Report every 2 years, SQGs do not need to report. Therefore the total count of SQGs does not fluctuate with time, like the LQG count, rather it only increases. EPA felt the SQG universe estimate in this ICR was over-inflated because SQGs that no longer exist were still being counted. EPA developed a new methodology for counting SQGs which only includes those SQGs still in business as far back as 2007.

Richard T. Westlund,
Acting Director, Collection Strategies Division.

[FR Doc. 2014-05917 Filed 3-17-14; 8:45 am]

BILLING CODE 6560-50-P